DEPARTMENT OF ENERGY

Federal Energy Regulatory Commission

Combined Notice of Filings #2

Take notice that the Commission received the following electric rate filings:

Docket Numbers: ER10-1586-006; ER12-2511-009; ER10-1630-006.

Applicants: Big Sandy Peaker Plant, LLC, C.P. Crane LLC, Wolf Hills Energy, LLC.

Description: Updated Market Power Analysis for the Northeast Region of Big Sandy Peaker Plant, LLC, et al.

Filed Date: 6/28/17.

Accession Number: 20170628-5147.

Comments Due: 5 p.m. ET 8/28/17.

Docket Numbers: ER10-2627-011; ER10-2629.

Applicants: FirstLight Hydro Generating Company, FirstLight Power Resources Management, LLC.

Description: Updated Market Power Analysis for the Northeast Region of FirstLight Hydro Generating Company, et al.

Filed Date: 6/28/17.

Accession Number: 20170628-5142.

Comments Due: 5 p.m. ET 8/28/17.

Docket Numbers: ER11-1850-007.

Applicants: Direct Energy Business, LLC.

Description: Northeast Region Triennial Report of the Direct Energy Sellers.

Filed Date: 6/28/17.

Accession Number: 20170628-5080.

Comments Due: 5 p.m. ET 8/28/17.

Docket Numbers: ER13-1641-004.

Applicants: Chestnut Flats Lessee, LLC.

Description: Market-Based Triennial Review Filing: 2017 Triennial Market Power Update for Northeast Region—Chestnut Flats Lessee to be effective 7/1/2017.

Filed Date: 6/28/17.

Accession Number: 20170628-5173.

Comments Due: 5 p.m. ET 8/28/17.

Docket Numbers: ER17-1370-001.

Applicants: ENGIE Energy Marketing NA, Inc., ENGIE Portfolio Management, LLC, ENGIE Resources LLC, ENGIE Retail, LLC, Mt. Tom Generating Company, LLC, Pinetree Power-Tamworth, LLC, Waterbury Generation LLC, Nassau Energy, LLC.

Description: Updated Market Power Analysis for the Northeast Region of the ENGIE Northeast MBR Sellers.

Filed Date: 6/28/17.

Accession Number: 20170628-5070.

Comments Due: 5 p.m. ET 8/28/17.

Docket Numbers: ER17-1594-001.

Applicants: Archer Energy, LLC.

Description: Tariff Amendment: Amend Application for Market Based Rate Authority to be effective 7/15/2017.

Filed Date: 6/28/17.

Accession Number: 20170628-5122.

Comments Due: 5 p.m. ET 7/19/17.

Docket Numbers: ER17-1924-000.

Applicants: PJM Interconnection, L.L.C.

Description: Tariff Cancellation: Notice of Cancellation of Service Agreement No. 4656, Queue No. AA1-138 to be effective 6/6/2017.

Filed Date: 6/28/17.

Accession Number: 20170628-5098.

Comments Due: 5 p.m. ET 7/19/17.

Docket Numbers: ER17-1925-000.

Applicants: PJM Interconnection, L.L.C.

Description: Tariff Cancellation: Notice of Cancellation of Service Agreement No. 4645, Queue No. AA1-049/AA1-132 to be effective 6/1/2017.

Filed Date: 6/28/17.

Accession Number: 20170628-5099.

Comments Due: 5 p.m. ET 7/19/17.

Docket Numbers: ER17-1926-000.

Applicants: Entegra Power Services LLC.

Description: Tariff Cancellation: Complete Cancellation of FERC Electric Tariff to be effective 6/29/2017.

Filed Date: 6/28/17.

Accession Number: 20170628-5106.

Comments Due: 5 p.m. ET 7/19/17.

Docket Numbers: ER17-1927-000.

Applicants: Grays Ferry Cogeneration Partnership.

Description: Market-Based Triennial Review Filing: Northeast Triennial & Order No. 819 to be effective 6/29/2017.

Filed Date: 6/28/17.

Accession Number: 20170628-5120.

Comments Due: 5 p.m. ET 8/28/17.

Docket Numbers: ER17-1928-000.

Applicants: AEP Texas Inc.

Description: § 205(d) Rate Filing: AEPTX Notice of Succession Pt 1 of 2 over AEP Texas Central and North Companies to be effective 6/30/2017.

Filed Date: 6/28/17.

Accession Number: 20170628-5124.

Comments Due: 5 p.m. ET 7/19/17.

Docket Numbers: ER17-1929-000.

Applicants: AEP Texas Inc.

Description: § 205(d) Rate Filing: AEPTX Notice of Succession Pt 2 of 2 over AEP Texas Central and North Companies to be effective 6/30/2017.

Filed Date: 6/28/17.

Accession Number: 20170628-5126.

Comments Due: 5 p.m. ET 7/19/17.

Docket Numbers: ER17-1930-000.

Applicants: Public Service Company of Oklahoma.

Description: Compliance filing: PSO CSW Operating Companies MBR Filing to be effective 6/30/2017.

Filed Date: 6/28/17.

Accession Number: 20170628-5134.

Comments Due: 5 p.m. ET 7/19/17.

Docket Numbers: ER17-1931-000.

Applicants: AEP Texas Inc.

Description: § 205(d) Rate Filing: AEPTX CSW Operating Companies MBR Concurrence to be effective 6/30/2017.

Filed Date: 6/28/17.

Accession Number: 20170628-5135.

Comments Due: 5 p.m. ET 7/19/17.

Docket Numbers: ER17-1932-000.

Applicants: Southwestern Electric Power Company.

Description: § 205(d) Rate Filing: SWEPCO CSW Oper Cos MBR Concurrence Revision to be effective 6/30/2017.

Filed Date: 6/28/17.

Accession Number: 20170628-5136.

Comments Due: 5 p.m. ET 7/19/17.

Docket Numbers: ER17-1933-000.

Applicants: CSW Energy Services, Inc.

Description: Tariff Cancellation: CSW ES RS FERC No. 1 MBR Tariff DB Cancellation to be effective 6/30/2017.

Filed Date: 6/28/17.

Accession Number: 20170628-5139.

Comments Due: 5 p.m. ET 7/19/17.

Docket Numbers: ER17-1934-000.

Applicants: Southwest Power Pool, Inc.

Description: § 205(d) Rate Filing: 2881R4 City of Chanute, KS NITSA NOA to be effective 9/1/2017.

Filed Date: 6/28/17.

Accession Number: 20170628-5140.

Comments Due: 5 p.m. ET 7/19/17.

Take notice that the Commission received the following qualifying facility filings:

Docket Numbers: QF17-1135-000.

Applicants: Prestage AgEnergy of NC, LLC.

Description: Form 556 of Prestage AgEnergy of NC, LLC.

Filed Date: 6/28/17.

Accession Number: 20170628-5087.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2017.
Nathaniel J. Davis, Sr.,
Deputy Secretary.

[FR Doc. 2017-14022 Filed 7-3-17; 8:45 am]

BILLING CODE 6717-01-P